DEPARTMENT OF LABOR

Mine Safety and Health Administration

30 CFR Part 75

RIN 1219-AB52

Sealing of Abandoned Areas

AGENCY: Mine Safety and Health Administration, Labor.

ACTION: Final rule; limited reopening of comment period; availability; notice of public hearing; close of comment period.

SUMMARY: The Mine Safety and Health Administration (MSHA) is reopening the comment period for the Emergency Temporary Standard (ETS) on sealing of abandoned areas of underground coal mines to provide commenters time to review and submit comments on the U.S. Army Corps of Engineers' Draft Report “CFD [Computational Fluid Dynamics] Study and Structural Analysis of the Sago Mine Accident” (Report).

DATES: All comments on the ETS published at 72 FR 28796, May 22, 2007, and other appropriate data must be received by midnight, January 18, 2008, Eastern Standard Time. MSHA will hold a public hearing on January 15, 2008. Details about the public hearing are addressed in the SUPPLEMENTARY INFORMATION section of this document.

ADDRESSES: Comments must be clearly identified and may be submitted by any of the following methods:

1. Federal Rulemaking Portal: http://www.regulations.gov. Follow the instructions for submitting comments.

2. Electronic mail: zzMSHA-Comments@dol.gov. Include “RIN 1219-AB52” in the subject line of the message.

3. Telefax: (202) 693-9441. Include “RIN 1219-AB52” in the subject.

4. Regular Mail: MSHA, Office of Standards, Regulations, and Variances, 1100 Wilson Blvd., Room 2350, Arlington, Virginia 22209-3939.

5. Hand Delivery or Courier: MSHA, Office of Standards, Regulations, and Variances, 1100 Wilson Blvd., Room 2350, Arlington, Virginia 22209-3939. Sign in at the receptionist's desk on the 21st floor.

6. Docket: Comments can be accessed electronically at http://www.msha.gov under the “Rules and Regs” link. MSHA will post all comments on the Internet without change, including any personal information provided. Comments may also be reviewed at the Office of Standards, Regulations, and Variances, 1100 Wilson Blvd., Room 2350, Arlington, Virginia. Sign in at the receptionist's desk on the 21st floor.

MSHA maintains a listserve that enables subscribers to receive e-mail notification when rulemaking documents are published in the Federal Register. To subscribe to the listserve, go to http://www.msha.gov/subscriptions/subscribe.aspx.

FOR FURTHER INFORMATION CONTACT: Patricia W. Silvey, Director, Office of Standards, Regulations, and Variances, MSHA, 1100 Wilson Boulevard, Room 2350, Arlington, Virginia 22209-3939. Ms. Silvey can be reached at Silvey.Patricia@dol.gov (Internet E-mail), (202) 693-9440 (voice), or (202) 693-9441 (facsimile). This notice is available on the Internet at http://www.msha.gov/REGSINFO.HTM.

SUPPLEMENTARY INFORMATION:

I. Background

MSHA issued an Emergency Temporary Standard (ETS) on May 22, 2007, (72 FR 28796), and extended the comment period to September 17, 2007. MSHA is seeking additional public comment on the Report. The Report summarizes the preliminary results of a study performed under contract (MSHA NO 1A-AR 6000012) for MSHA's Technical Support Directorate (Technical Support) by the U.S. Army Corps of Engineers (USACE). The USACE conducted research and testing from August 2006 to April 2007. The USACE provided a draft of the Report of their findings to Technical Support in May of 2007. The Report details the USACE's efforts to mathematically model the methane explosion at the Sago Mine and potentially establish the seal overpressures. The Report was not finalized.

MSHA is expressly limiting comments to those which address the Report as it relates to the regulatory provisions in the ETS. The Report is available on the Internet at: http://www.msha.gov/CFDSagoReport.pdf. This notice allows commenters sufficient time to review the Report and submit comments. All comments and other appropriate data must be received by midnight, January 18, 2008, Eastern Standard Time.

II. Public Hearing

In addition to accepting written comments, MSHA will hold a public hearing on the Report. The hearing will begin at 9 a.m. and will end after the last speaker speaks, on the following date and location:

Date | Location | Phone
January 15, 2008 | Mine Safety and Health Administration, 1100 Wilson Blvd., 25th Floor, Conference Room, Arlington, Virginia 22209 | 202-693-9440

Requests to speak should be made at least 5 days prior to the hearing date. Requests to speak may be made by telephone (202-693-9440), facsimile (202-693-9441), or mail (MSHA, Office of Standards, Regulations, and Variances, 1100 Wilson Boulevard, Room 2350, Arlington, Virginia 22209-3939). Any unallocated time at the end of the hearing will be made available to persons making same-day requests to speak.

The hearing will begin with an opening statement from MSHA, followed by an opportunity for members of the public to make oral presentations to the hearing panel. Speakers will be assigned in the order in which their requests are received. Speakers and attendees may present written information or other articles to the MSHA panel for inclusion in the rulemaking record.

The hearing will be conducted in an informal manner. Formal rules of evidence and cross examination will not apply. The presiding official may limit presentations and exclude irrelevant or unduly repetitious material and questions to ensure the orderly progress of the hearing. The hearing panelists may ask questions of speakers. Speakers and other attendees may present written information to the MSHA panel for inclusion in the rulemaking record.

MSHA will make the transcript available and will also post the transcript of the hearing on MSHA's Web site at http://www.msha.gov, and include it in the rulemaking record.

MSHA will accept comments and data for the record from any interested party, including those not presenting oral statements at the hearing.

Dated: December 17, 2007.
Richard E. Stickler,
Assistant Secretary for Mine Safety and Health.

[FR Doc. 07-6128 Filed 12-17-07; 2:31 pm]

BILLING CODE 4510-43-P